DEPARTMENT OF JUSTICE

Notice of Lodging of Consent Decree Pursuant to the Comprehensive Environmental Response, Compensation, and Liability Act

AGENCY: In accordance with Departmental policy, 28 CFR 50.7, notice is hereby given that a proposed consent decree in United States v. AOL Express, Inc., et al., Civil Action No. C06-5204FDB, was lodged on April 13, 2006, with the United States District Court for the Western District of Washington. The consent decree requires defendants AOL Express, Inc., Arkema Inc., Edward and Molly Barry, Buffelen Woodworking Co., CHS Inc., Charles P. and Patricia Curran, Dunlap Towing Company, Estate of Norman Nordlund, Estate of Leslie P. Sussman, F.O.F., Inc., Hylebos Boat Haven, Hylebos Marina, Inc., Judy Johnson, Jones Chemicals, Inc., Joseph Simon & Sons/Rail & Locomotive Equipment Co., Louisiana-pacific Corporation, Phyllis Nordlund, Nordlund Boat Company, Inc., Don and Alba Oline, Ronald Oline, Donald S. and Barbara L. Olson, Kay E. Olson, Olson & Curran Barnacle Stopping Salt Water Free Vertical Dry Dock Co. dba Ole & Charlie's Marinas Portac, Inc., Rayonier Properties, LLC, Paula Rose, Sussman Rose Sussman, Alan Sussman, Sophie Sussman, USG Interiors, Inc., Wasser & Winters Co., Inc., West Waterway Associates, P.S. and Zidell Marine Corporation to compensate natural resource trustees for natural resource damages in Commencement Bay, Washington, resulting from releases of hazardous substances. The trustees are the State of Washington, the Puyallup Tribe of Indians, the Muckleshoot Indian Tribe, the National Oceanic and Atmospheric Administration of the United States Department of Commerce, and the United States Department of the Interior. Under the consent decree, defendants will fund the construction of a salmon habitat restoration project in Pierce County, Washington, pay the trustees $150,000 for project oversight, and reimburse a total of $1,793,888.46 in trustee damage assessment costs.

The Department of Justice will receive, for a period of thirty (30) days from the date of this publication, comments relating to the proposed consent decree. Comments should be addressed to the Assistant Attorney General for the Environment and Natural Resources Division, Department of Justice, Washington, DC 20530, and should refer to United States v. AOL Express, Inc., DOJ Ref. # 90-11-2-1049/6.

The proposed consent decree may be examined at the office of theUnited States Attorney, 601 Union Street, Seattle, WA 98101. During the public comment period, the Consent Decree may be examined on the following Department of Justice Web site: http://www.usdoj.gov/enrd/open.html and at the Consent Decree Library, P.O. Box 7611, U.S. Department of Justice, Washington, DC 20044-7611 or by faxing a request to Tonia Fleetwood, fax no. (202) 514-0097, phone confirmation number (202) 514-1547. In requesting a copy please refer to the referenced case and enclose a check in the amount of $33.50 (25 cents per page reproduction costs), payable to the U.S. Treasury.

Robert E. Maher, Jr.,
Ass't Chief, Environmental Enforcement Section, Environment and Natural Resources Division.

[FR Doc. 06-3938 Filed 4-25-06; 8:45 am]

BILLING CODE 4410-15-M